DEPARTMENT OF THE INTERIOR

Bureau of Land Management

[16X LLUT920000 L13100000.DN0000 LXSSJ0540000 24 1A]

Notice of Intent To Prepare a Master Leasing Plan, Amend the Resource Management Plans for the Price and Richfield Field Offices, and Prepare an Associated Environmental Assessment, Utah

AGENCY: Bureau of Land Management, Interior.

ACTION: Notice.

SUMMARY: In compliance with the National Environmental Policy Act of 1969, as amended (NEPA), and the Federal Land Policy and Management Act of 1976, as amended, the Bureau of Land Management (BLM) Price and Richfield Field Offices intend to prepare a Master Leasing Plan (MLP) and Resource Management Plan (RMP) amendments with a single Environmental Assessment (EA). The BLM will consider resource management plan decisions related to oil and gas leasing and post-leasing oil and gas development on approximately 525,000 acres of public land in the San Rafael Desert, located in Emery and Wayne Counties, Utah. By this notice, the BLM is announcing the beginning of the scoping process to solicit public comments and identify issues.

DATES: This notice initiates the public scoping process for the San Rafael Desert MLP, RMP amendments, and associated EA. Comments on issues may be submitted in writing until the end of the scoping period, which is June 17, 2016. The date(s) and location(s) of any scoping meetings will be announced at least 15 days in advance through local news media, newspapers and the BLM Web site at: http://www.blm.gov/ut/st/en.html. In order to be included in the analysis, all comments must be received prior to the close of the 30-day scoping period or 15 days after the last public meeting, whichever is later. We will provide additional opportunities for public participation as appropriate.

ADDRESSES: Comments may be submitted on issues and planning criteria related to the San Rafael Desert MLP and RMP amendments/EA by any of the following methods:

• Email: BLM_UT_PR_MAIL@blm.gov

• Fax: (435) 636-3657

• Mail: BLM Price Field Office, 125 South 600 West, Price, UT 84501; Attention: Jake Palma

FOR FURTHER INFORMATION CONTACT: Tyler Ashcroft, National Project Manager; telephone (801) 539-4068; email tashcrof@blm.gov. Contact Mr. Ashcroft to have your name added to our mailing list. Persons who use a telecommunications device for the deaf (TDD) may call the Federal Information Relay Service (FIRS) at 1-800-877-8339 to contact the above individual during normal business hours. The FIRS is available 24 hours a day, 7 days a week, to leave a message or question with the above individual. Replies are provided during normal business hours.

SUPPLEMENTARY INFORMATION: This document provides notice that the BLM Price and Richfield Field Offices in Utah intend to prepare an MLP and RMP amendments with a single EA for the San Rafael Desert, announces the beginning of the scoping process, and seeks public input on issues and planning criteria.

The planning area is located in Emery and Wayne counties in Utah and encompasses approximately 525,000 acres of public land that are primarily located south of Interstate 70 and east of Highway 24. The eastern boundary of the MLP planning area is generally the Green River. A small portion of the MLP area is located north of Interstate 70, west of the City of Green River, UT, and East of the San Rafael Swell. U.S. Highway 6 bisects this part of the planning area.

The BLM will prepare the MLP in accordance with Washington Office Instruction Memorandum No. 2010-117, Oil and Gas Leasing Reform—Land Use Planning and Lease Parcel Reviews, May 17, 2010, which has been incorporated and supplemented in various BLM handbooks, including H-1624-1, Planning for Fluid Mineral Resources. The MLP process will provide additional planning and analysis for areas prior to new leasing of oil and gas resources. The MLP process will enable the Price and Richfield Field Offices to: (1) Resolve long-standing lease protests relating to parcels of land for which BLM received lease offers subject to protest, but for which BLM has not issued leases in the planning area; (2) Determine whether the BLM should cancel, modify, or lift the suspensions on suspended leases in the planning area; (3) Evaluate potential development scenarios; (4) Identify and address potential resource conflicts and environmental impacts from development; (5) Create oil and gas development mitigation strategies; and (6) Consider a range of new conditions, including prohibiting surface occupancy or closing certain areas to leasing.

The MLP process could result in new oil and gas leasing stipulations and development scenarios which would require amendments to the Price and Richfield RMPs completed in 2008. The EA will analyze likely oil and gas development scenarios and land use plan alternatives with varying mitigation levels for leasing.

The purpose of the public scoping process is to determine relevant issues, identify alternatives, and guide the planning process. Preliminary issues for the plan amendment area have been identified by BLM personnel; Federal, State, and local agencies; and other stakeholders. The potential issues include: Air quality, climate change, cultural resources, paleontological resources, recreation, visual resources, night skies, riparian resources, soil and water resources, vegetation, wildlife resources, special status species, special designations, and wilderness characteristics.

The BLM established preliminary planning criteria for this effort. As part of those criteria, the BLM will: (1) Limit the scope to resource management plan decisions pertaining to oil and gas leasing and post-leasing development of the area; (2) resolve long-standing lease protests and decide whether to cancel, modify, or lift the suspension on suspended leases in the planning area; (3) recognize valid existing rights; (4) only address management of public lands (including federal mineral estate under non-federal surface in a “split estate” situation); (5) use a collaborative, multi-jurisdictional approach to determine how mineral leasing will be managed; (6) ensure that its management decisions are as consistent as possible with local, State, and other Federal agency plans; (7) prepare development scenarios for oil and gas resources based on historical, existing, and projected levels of development; (8) consider a range of alternatives that focus on mitigating the impacts of development on resources that are of concern; (9) address the socioeconomic impacts of the alternatives; and, (10) use the best available scientific information and inventory and monitoring information to determine appropriate decisions for oil and gas leasing.

You may submit comments on issues and planning criteria in writing to the BLM at any public scoping meeting, or you may submit them to the BLM using one of the methods listed in the ADDRESSES section above. To be most helpful, you should submit comments by the close of the 30-day scoping period or within 15 days after the last public meeting, whichever is later.

The BLM will utilize the NEPA scoping process to help fulfill the public involvement requirements under the National Historic Preservation Act (54 U.S.C. 306108), as provided in 36 CFR 800.2(d)(3). The information about historic and cultural resources within the area potentially affected by the proposed action will assist the BLM in identifying and evaluating impacts to such resources.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the EA as a cooperating agency.

The BLM will use an interdisciplinary approach to develop the plan amendment in order to consider the variety of resource issues and concerns identified. Specialists with expertise in the following disciplines will be involved in the planning process: Minerals and geology, outdoor recreation, visual resources management, Areas of Critical Environmental Concern (ACEC) and National Conservation Lands management, archaeology, paleontology, wildlife and fisheries, special status species, hydrology, soils, rangeland management, air quality, and sociology and economics.

Before including your address, phone number, email address, or other personal identifying information in your comment, you should be aware that your entire comment—including your personal identifying information—may be made publicly available at any time. While you may ask us in your comment to withhold your personal identifying information from public review, we cannot guarantee that we will be able to do so.

Authority: 40 CFR 1501.7 and 43 CFR 1610.2

Jenna Whitlock,
Acting State Director.

[FR Doc. 2016-11726 Filed 5-17-16; 8:45 am]

BILLING CODE 4310-DQ-P